DEPARTMENT OF HEALTH AND HUMAN SERVICES

Centers for Disease Control and Prevention

[60Day-02-30]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Outcome Evaluation of HIV Prevention Programs Focusing on Prevention Case Management Interventions Implemented by the Directly-funded Community-Based Organizations (CBOs)—New—National Center for HIV, STD and Tuberculosis Prevention (NCHSTP), Centers for Disease Control and Prevention (CDC). This evaluation is necessary to understand the impact of CDC's expenditures and efforts to support CBOs and for modifying and improving the HIV prevention case management efforts of CBOs. This data collection will provide standardized data and allow CDC to (a) assess the implementation and effectiveness of HIV prevention case management (PCM) interventions through process and outcome evaluations; (b) determine the degree of adherence to the CBOs' documented HIV PCM intervention protocol, and through quality assurance efforts, to revise program implementation as necessary; (c) understand the behavioral impact of these programs; and (d) provide useful information for CBO program planners and implementers.

Three CBOs funded under Program Announcement 01000, Community-Based Strategies to Increase HIV Testing of Persons at High Risk in Communities of Color, successfully competed for additional funds from Program Announcement 01159, Outcome Evaluation of HIV Prevention Programs with a focus on Prevention Case Management Interventions and Group-Level Interventions Implemented by CDC's Directly-funded Community-Based Organizations, to conduct an outcome evaluation of their PCM interventions for two years. These CBOs administer baseline social-behavioral questionnaires as part of program services. Each CBO will report on the PCM program that it has implemented, and, as part of the research project, will conduct two short follow-up social-behavioral questionnaires with clients to assess changes in participant risk behaviors. Incentives will be given to CBO respondents to complete follow-up assessments. This is a two-year project; each of the three CBOs is estimated to collect data from 100 clients each year. There are no costs to respondents.

Respondents | Number of respondents | Number of responses per respondent | Average burden per response (in hours) | Total burden (in hours)
CBO Clients (year—1) | 300 | 1 | 30/60 | 150
CBO Clients (year—2) | 300 | 1 | 30/60 | 150
Total |  |  |  | 300

Dated: March 18, 2002.
Nancy Cheal,
Acting Associate Director for Policy, Planning and Evaluation, Centers for Disease Control and Prevention.

[FR Doc. 02-6924 Filed 3-21-02; 8:45 am]

BILLING CODE 4163-18-P